DEPARTMENT OF ENERGY

Federal Energy Regulatory Commission

[Docket No. EC03-68-000, et al.]

Reliant Resources, Inc., et al.; Electric Rate and Corporate Filings

March 17, 2003.

The following filings have been made with the Commission. The filings are listed in ascending order within each docket classification.

1. Reliant Resources, Inc., Reliant Energy Choctaw County, LLC, Reliant Energy Hunterstown, LLC

[Docket No. EC03-68-000]

Take notice that on March 14, 2003, Reliant Resources, Inc. (RRI), Reliant Energy Choctaw County, LLC (Reliant Choctaw), and Reliant Energy Hunterstown, LLC (Reliant Hunterstown) (collectively, Applicants), filed with the Federal Energy Regulatory Commission a joint application pursuant to section 203 of the Federal Power Act for authorization on an expedited basis of authority to change control and transfer ownership of jurisdictional facilities to RRI or to any direct or indirect wholly-owned subsidiary of RRI, including Reliant Hunterstown and/or Reliant Choctaw. Applicants state that they require the requested authorization in order to finalize the restructuring of RRI's debt. Applicants, therefore, request a shortened notice period and expedited Commission approval within 14 days of filing in order to achieve closing of the proposed transaction on or before March 28, 2003.

Comment Date: March 24, 2003.

2. Arizona Public Service Company

[Docket No. ER03-347-001]

Take notice that on March 13, 2003, Arizona Public Service Company (APS) tendered for filing a re-conformed copy of the Long-Term Power Transactions Agreement with PacifiCorp (PAC) applicable under the APS-FERC Rate Schedule No. 182 in compliance with the Commission's Order in Docket No. ER03-347-000.

APS states that a copy of this filing has been served on PAC.

Comment Date: April 3, 2003.

3. Brookhaven Energy Limited Partnership

[Docket No. ER03-597-001]

Take notice that on March 11, 2003, Brookhaven Energy Limited Partnership (Brookhaven Energy), filed with the Federal Energy Regulatory Commission an amended Market-Based Tariff in the above-referenced proceeding.

Comment Date: April 2, 2003.

4. Southern California Edison Company

[Docket No. ER03-609-000]

Take notice that on March 12, 2003, Southern California Edison Company, (SCE), tendered for filing a Notice of Cancellation of the Service Agreement for Wholesale Distribution Service between SCE and Riverside Canal Power Company. SCE request an effective date of March 1, 2003.

SCE also states that copies of the proposed cancellation has been served to the Public Utilities Commission of the State of California, and Riverside Canal Power Company.

Comment Date: April 2, 2003.

5. Allegheny Energy Supply Units 3, 4 & 5, LLC

[Docket No. ER03-610-000]

Take notice that on March 12, 2003, Allegheny Energy Supply Units 3, 4 & 5, LLC (Allegheny 3, 4 & 5) filed a market rate tariff of general applicability under which it proposes to sell capacity and energy to affiliates and non-affiliates at market-based rates, and to make such sales to franchised public utility affiliates at rates capped by a publicly available regional index price. Allegheny 3, 4 & 5 requests an effective date of one day after filing on March 13, 2003.

Comment Date: April 2, 2003.

6. Riverview Energy Center, LLC

[Docket No. ER03-611-000]

Take notice that on March 12, 2003, Riverview Energy Center, LLC tendered for filing, under section 205 of the Federal Power Act, a request for authorization to make wholesale sales of electric energy, capacity, replacement reserves, and ancillary services at market-based rates, to reassign transmission capacity, and to resell firm transmission rights.

Comment Date: April 2, 2003.

7. PJM Interconnection, L.L.C.

[Docket No. ER03-613-000]

Take notice that on March 12, 2003, PJM Interconnection, L.L.C. (PJM), submitted to the Federal Energy Regulatory Commission (Commission) amendments to Schedule 2 of the PJM Open Access Transmission Tariff (PJM Tariff) to include Liberty Electric Power, LLC (Liberty) and Armstrong Energy Limited Partnership, LLLP (Armstrong) revenue requirements for Reactive Supply and Voltage Control from General Sources Service that the Commission accepted for filing in Docket Nos. ER03-88-000, ER03-88-001 and ER03-229-000.

Consistent with the effective dates of the Commission's acceptance of Liberty's revenue requirements in Docket Nos. ER03-88-000 and ER03-88-001, PJM requests an effective date of January 1, 2003, for the Sixth Revised Sheet No. 112A of the PJM Tariff. In addition, consistent with the effective dates of the Commission's acceptance of Armstrong's revenue requirements in Docket No. ER03-229-000, PJM requests an effective date of February 1, 2003, for the Seventh Revised Sheet No. 112A of the PJM Tariff.

PJM states that copies of this filing have been served on all PJM members, Liberty, Armstrong, and each state electric utility regulatory commission in the PJM region.

Comment Date: April 2, 2003.

8. Southwest Power Pool, Inc.

[Docket No. ER03-614-000]

Take notice that on March 12, 2003, Southwest Power Pool, Inc. (SPP) submitted for filing an executed Letter Agreement between ExxonMobil Production Company and Southwestern Electric Power Company (the Company) (collectively, the Parties). The Letter Agreement provides for the performance of certain engineering, design and equipment specification and certification activities by the Company and the payment for such activities by ExxonMobil Production Company relating to the proposed interconnection of a generating facility to be constructed by ExxonMobil Production Company near the City of Hawkins, Texas with the Company's transmission facilities. SPP seeks an effective date of February 1, 2003, for this Letter Agreement.

Comment Date: April 2, 2003.

9. Entergy Services, Inc.

[Docket No. ER03-615-000]

Take notice that on March 13, 2003, Entergy Services, Inc., on behalf of Entergy Gulf States, Inc. (Entergy Gulf States), tendered for filing six copies of a Notice of Termination of the Interconnection and Operating Agreement and Generator Imbalance Agreement between Entergy Gulf States and Borden Chemicals and Plastics Operating Limited Partnership, debtor-in-possession.

Comment Date: April 3, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6936 Filed 3-21-03; 8:45 am]

BILLING CODE 6717-01-P